DEPARTMENT OF TRANSPORTATION

Federal Highway Administration

Transportation Equity Act for the 21st Century; Webcast for the National Corridor Planning and Development Program and the Coordinated Border Infrastructure Program

AGENCY: Federal Highway Administration (FHWA); DOT.

ACTION: Notice of June 7, 2001 webcast following solicitation of intent to apply for fiscal year (FY) 2002 grants.

SUMMARY: This document provides notice that the FHWA will host a webcast following the May 7, 2001, publication of a notice in the Federal Register soliciting intent to apply for FY 2002 funds from the National Corridor Planning and Development Program (NCPD program) and the Coordinated Border Infrastructure Program (CBI program). Specific instructions on the format and content of a statement of intent to apply were provided in that notice. The NCPD and the CBI programs are discretionary grant programs funded by a single funding source. These programs provide funding for planning, project development, construction and operation of projects that serve border regions near Mexico and Canada and high priority corridors throughout the United States.

DATES: The webcast will be held on June 7, 2001 from 1 pm until 3:30 pm.

ADDRESSES: The entry point for viewing the webcast and information on asking questions during the webcast are available at the Midwest Resource Center website whose office will operate the webcast:

http://www.mrc.fhwa.dt.gov/theater/

A link to that site is available at the NCPD/CBI program website:

http://www.fhwa.dot.gov/hep10/corbor/corbor.html

FOR FURTHER INFORMATION CONTACT: For program issues: Mr. Martin Weiss, Office of Intermodal and Statewide Programs, HEPS-10, (202) 366-5010; or for legal issues: Mr. Robert Black, Office of the Chief Counsel, HCC-30, (202) 366-1359; Federal Highway Administration, 400 Seventh Street, SW., Washington DC, 20590. For webcast issues: Mr. Clayton Marcuson, HRC-05, (708) 283-3593; Federal Highway Administration, 19900 Governors Drive, Suite 301, Olympia Fields, Illinois, 60461.

SUPPLEMENTARY INFORMATION: States and metropolitan planning organizations (MPOs) are, under the NCPD program, eligible for discretionary grants for: Corridor feasibility; corridor planning; multistate coordination; environmental review; and construction. Border States and MPOs are, under the CBI program, eligible for discretionary grants for: Transportation and safety infrastructure improvements, operation and regulatory improvements, and coordination and safety inspection improvements in a border region.

The webcast on June 7, 2001, will be open to the public but is targeted to officials of States and MPOs and those expecting to work with such officials to develop statements of intent to apply for FY 2002 funding. The FHWA will begin the webcast by providing additional background on the history of the NCPD/CBI program and on program administration. Subsequently, a question and answer session will be held.

Authority: 23 U.S.C. 315; sec. 1118 and 1119, Pub.L. 105-178, 112 Stat. 107 at 161 (1998); and 49 CFR 1.48.

Issued on: May 18, 2001.
Vincent F. Schimmoller,
Deputy Executive Director.

[FR Doc. 01-13185 Filed 5-24-01; 8:45 am]

BILLING CODE 4910-22-P